DEPARTMENT OF STATE

[Public Notice 8042]

Call for Expert Reviewers to the U.S. Government Review of the Working Group I Contribution to the Fifth Assessment Report of the Intergovernmental Panel on Climate Change (IPCC), Climate Change 2013: The Physical Science Basis

Summary: The United States Global Change Research Program, in cooperation with the Department of State, request expert review of the Second Order Draft of the Working Group I Contribution to the Fifth Assessment Report of the Intergovernmental Panel on Climate Change (IPCC) Climate Change 2013: The Physical Science Basis.

The United Nations Environment Programme (UNEP) and the World Meteorological Organization (WMO) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation. The IPCC develops a comprehensive assessment spanning all the above topics approximately every six years. The First Assessment Report was completed in 1990, the Second Assessment Report in 1995, the Third Assessment Report in 2001, and the Fourth Assessment in 2007.

Three working group volumes and a synthesis report comprise the Fifth Assessment Report. Working Group I assesses the scientific aspects of the climate system and climate change; Working Group II assesses the vulnerability of socio-economic and natural systems to climate change, potential negative and positive consequences, and options for adapting to it; and Working Group III assesses options for limiting greenhouse gas emissions and otherwise mitigating climate change. Procedures for the IPCC and its preparation of reports can be found at the following Web sites: http://www.ipcc.ch/organization/organization_review.shtml#.UEY0LqSe7x8 http://ipcc.ch/organization/organization_procedures.shtml.

In October 2009, the IPCC approved the outline for the Working Group I contribution to the 5th Assessment Report (Working Group I Table of Contents: https://www.ipcc.unibe.ch/AR5/chapteroutline.html). Authors were nominated in May of 2010 and selected in June of 2010. All IPCC reports go through two broad reviews: a “first-order draft'” reviewed by experts, and a “second-order draft” reviewed by both experts and governments. The Second Order Draft of the Working Group I contribution to the 5th Assessment Report will be available for review beginning on 5 October 2012.

As part of the U.S. Government Review of the Second Order Draft of the Working Group I Contribution to the 5th Assessment Report, the U.S. Government is soliciting comments from experts in relevant fields of expertise (Again, the Table of Contents for the Working Group contribution can be viewed here: https://www.ipcc.unibe.ch/AR5/chapteroutline.html)

Beginning on 7 September, experts may register to review the draft report at: http://ar5wgi.globalchange.gov/. The draft report will be made available on 5 October 2012 to those who registered. To be considered for inclusion in the U.S. Government submission, comments must be received by 2 November 2012.

The United States Global Change Research Program will coordinate collection and compilation of U.S. expert comments and the review of the report by a Review Committee of Federal scientists and program managers in order to develop a consolidated U.S. Government submission, which will be provided to the IPCC by November 30, 2012. Expert comments received within the comment period will be considered for inclusion in the U.S. Government submission. Instructions for review and submission of comments are available at: http://ar5wgi.globalchange.gov/.

Experts may choose to provide comments directly through the IPCC's expert review process, which occurs in parallel with the U.S. government review. More information on the IPCC's comment process can be found at http://www.ipcc.ch/activities/activities.shtml and http://www.ipcc.ch/pdf/ar5/review_of_wg_contributions.pdf. To avoid duplication, comments submitted for consideration as part of the U.S. Government Review should not also be sent to the IPCC Secretariat through the Expert Review process. Comments to the U.S. government review should be submitted using the Web-based system at: http://ar5wgi.globalchange.gov/.

This certification will be published in the Federal Register.

Dated: September 20, 2012.
Trigg Talley,
Director, Office of Global Change, Department of State.

[FR Doc. 2012-23694 Filed 9-25-12; 8:45 am]

BILLING CODE 4710-09-P